FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011722-002.

Title: New World Alliance/Maersk Line Slot Exchange Agreement.

Parties: A.P. Moller-Maersk A/S (“Maersk”); APL Co. Pte. Ltd./American President Lines, Ltd.; Hyundai Merchant Marine Co., Ltd.; and Mitsui O.S.K. Lines, Ltd.

Filing Party: Wayne R. Rohde, Esq.; Sher & Blackwell LLP; 1850 M Street, NW., Suite 900; Washington, DC 20036.

Synopsis: The amendment changes Maersk's trade name and restates the agreement to show this change throughout.

Agreement No.: 011728-003.

Title: Maersk Line/APL Mediterranean Slot Charter Agreement.

Parties: A.P. Moller-Maersk A/S (“Maersk”) and American President Lines, Ltd./APL Co. Pte. Ltd. (“APL”).

Filing Party: Wayne R. Rohde, Esq.; Sher & Blackwell LLP; 1850 M Street, NW., Suite 900; Washington, DC 20036.

Synopsis: The amendment changes Maersk's trade name and restates the agreement to show this change throughout.

Agreement No.: 011745-007.

Title: Evergreen/Italia Marittima/Hatsu Marine Alliance Agreement.

Parties: Evergreen Marine Corp. (Taiwan) Ltd.; Italia Marittima S.p.A.; and Hatsu Marine Ltd.

Filing Party: Paul M. Keane, Esq.; Cichanowicz, Callan, Keane, Vengrow & Textor, LLP; 61 Broadway; Suite 3000; New York, NY 10006-2802.

Synopsis: The amendment changes Lloyd Triestino's name to Italia Marittima S.p.A. and renames and restates the agreement.

Agreement No.: 011796-002.

Title: CMA CGM/Italia Marittima S.P.A. Slot Exchange, Sailing and Cooperative Working Agreement.

Parties: CMA CGM, S.A. and Italia Marittima S.p.A.

Filing Party: Paul M. Keane, Esq.; Cichanowicz, Callan, Keane, Vengrow & Textor, LLP; 61 Broadway; Suite 3000; New York, NY 10006-2802.

Synopsis: The amendment changes Lloyd Triestino's name to Italia Marittima S.p.A. and renames and restates the agreement.

Agreement No.: 011843-002.

Title: ITS/ZIM Cross Space Charter and Sailing Agreement.

Parties: Italia Marittima S.p.A. and Zim Integrated Shipping Services, Ltd.

Filing Party: Paul M. Keane, Esq.; Cichanowicz, Callan, Keane, Vengrow & Textor, LLP; 61 Broadway; Suite 3000; New York, NY 10006-2802.

Synopsis: The amendment changes Lloyd Triestino's name to Italia Marittima S.p.A. and renames and restates the agreement.

Agreement No.: 011895-001.

Title: Crowley/Maersk Line Trinidad Space Charter Agreement.

Parties: A.P. Moller-Maersk A/S (“Maersk”) and Crowley Liner Service, Inc.

Filing Party: Wayne R. Rohde, Esq.; Sher & Blackwell LLP; 1850 M Street, NW., Suite 900; Washington, DC 20036.

Synopsis: The amendment changes Maersk's trade name and restates the agreement to show this change throughout.

Agreement No.: 011913-001.

Title: King Ocean/Maersk Line Space Charter Agreement.

Parties: A.P. Moller-Maersk A/S (“Maersk”) and King Ocean Services Limited.

Filing Party: Wayne R. Rohde, Esq.; Sher & Blackwell LLP; 1850 M Street, NW., Suite 900; Washington, DC 20036.

Synopsis: The amendment changes Maersk's trade name and restates the agreement to show this change throughout.

Agreement No.: 011927-001.

Title: ITS/Hatsu MUS Slot Charter Agreement.

Parties: Italia Marittima S.p.A. and Hatsu Marine Ltd.

Filing Party: Paul M. Keane, Esq.; Cichanowicz, Callan, Keane, Vengrow & Textor, LLP; 61 Broadway; Suite 3000; New York, NY 10006-2802.

Synopsis: The amendment changes Lloyd Triestino's name to Italia Marittima S.p.A. and renames and restates the agreement.

Agreement No.: 011947.

Title: Grimaldi/Sallaum Space Charter Agreement.

Parties: Grimaldi Compagnia di Navigazione (“Grimaldi”) and Sallaum Lines SAL (“Sallaum”).

Filing Party: Wayne R. Rohde, Esq.; Sher & Blackwell LLP; 1850 M Street, NW., Suite 900; Washington, DC 20036.

Synopsis: The agreement authorizes Grimaldi to charter space to Sallaum for the carriage of motor vehicles and other cargo from ports on the U.S. Atlantic Coast to the ports of Lome, Togo and Cotonou, Benin.

Agreement No.: 011948.

Title: CMA-CGM/CSCL Cross Space Charter, Sailing and Cooperative Working Agreement—Central China/US West Coast, Yang Tse/AAC 2 Service.

Parties: CMA-CGM, S.A. and China Shipping Container Lines Co., Ltd./China Shipping Container Lines (Hong Kong) Co., Ltd.

Filing Party: Brett M. Esber, Esq.; Blank Rome LLP; Watergate; 600 New Hampshire Ave., NW., Washington, DC 20037.

Synopsis: The agreement authorizes the parties to share vessel space in the trade between ports in the Far East and ports on the Pacific Coast of North America.

Agreement No.: 011949.

Title: U.S. Flag Roll-On Roll-Off Carrier Vessel Schedule Discussion and Voluntary Adherence Agreement.

Parties: American Roll-On Roll-Off Carrier, LLC and Waterman Steamship Corporation.

Filing Party: John P. Vayda, Esq.; Nourse & Bowles, LLP; One Exchange Plaza; 55 Broadway; New York, NY 10006-3030.

Synopsis: The agreement authorizes the parties to discuss and voluntarily adhere to the scheduling of their sailings between U.S. Atlantic and Gulf Coast ports and ports on the Mediterranean Sea and in the Middle East.

By Order of the Federal Maritime Commission.
Dated: March 3, 2006.
Karen V. Gregory,
Assistant Secretary.

[FR Doc. E6-3258 Filed 3-7-06; 8:45 am]

BILLING CODE 6730-01-P